DEPARTMENT OF EDUCATION

[Docket No.: ED-2013-ICCD-0106]

Agency Information Collection Activities; Comment Request; Evaluation of the Early Warning and Intervention Monitoring System

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before October 11, 2013.

ADDRESSES: Comments submitted in response to this notice should be submitted electronically through the Federal eRulemaking Portal at http://www.regulations.gov by selecting Docket ID number ED-2013-ICCD-0106 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Early Warning and Intervention Monitoring System.

OMB Control Number: 1850-NEW.

Type of Review: A new information collection.

Respondents/Affected Public: Individuals or households.

Total Estimated Number of Annual Responses: 1,589.

Total Estimated Number of Annual Burden Hours: 4,899.

Abstract: The proposed study is a two-year randomized controlled trial (RCT) to examine the impact of implementing an early warning system on school processes and student outcomes. The project responds to a need expressed by members of the REL Midwest's Ohio Dropout Prevention Alliance for clear information about the efficacy of early warning systems. Despite the strong foundational research on the use of early indicators to identify students who are at risk of not graduating and the increasingly widespread implementation of early warning systems by states, districts and schools to date there have been no rigorous studies testing the impact of early warning systems on student outcomes such as staying in school, progressing in school and graduating. There also is very little information on the impact of adopting an early warning system on school level processes, such as how schools allocate their limited resources to prevent dropout and how early warning systems may affect school data culture.

Dated: August 6, 2013.
Stephanie Valentine,
Acting Director, Information Collection Clearance Division, Privacy, Information and Records Management Services, Office of Management.

[FR Doc. 2013-19389 Filed 8-9-13; 8:45 am]

BILLING CODE 4000-01-P